DEPARTMENT OF ENERGY

Federal Regulatory Commission

[Docket No. RP-99-301-008]

ANR Pipeline Company; Notice of Compliance Filing

October 13, 2000.

Take notice that, on October 10, 2000, ANR Pipeline Company (ANR) tendered for filing as part of its FERC Gas Tariff, Second Revised Volume No. 1, the following revised tariff sheets, to be effective August 28, 2000.

Substitute Original Sheet No. 14O

Substitute Original Sheet No. 14P

ANR states that this filing is made in compliance with the Commission's Order dated September 27, 2000 in the captioned proceeding.

ANR states that copies of the filing have been mailed to all affected customers and state regulatory commissions.

Any person desiring to protest said filing should file a protest with the Federal Energy Regulatory Commission, 888 First Street NE, Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-26837 Filed 10-18-00; 8:45 am]

BILLING CODE 6717-01-M